DEPARTMENT OF DEFENSE

Office of the Secretary

Submission for OMB Review; Comment Request

ACTION: Notice.

The Department of Defense has submitted to OMB for clearance, the following proposal for collection of information under the provisions of the Paperwork Reduction Act (44 U.S.C. Chapter 35).

Title, Forms, and OMB Number: Department of Defense Security Agreement, Appendage, and Certificate Pertaining to Foreign Interests; DD Forms 441, 441-1, and SF 328; OMB Number 0704-0194.

Type of Request: Reinstatement.

Number of Respondents: 3,200.

Responses per Respondent: 2.

Annual Responses: 6,400.

Average Burden per Response: 1.5 hours (average).

Annual Burden Hours: 9,493.

Needs and Uses: Executive Order 12829, “National Industrial Security Program (NISP),” stipulates that the Secretary of Defense shall serve as the Executive Agent for inspecting and monitoring contractors, licensees, and grantees, who require or will require access to or will store classified information; for determining the eligibility for access to classified information of contractors, licensees, and grantees and their respective employees. The specific requirements necessary to protect classified information released to private industry are set forth in DoD 5200.22M, “National Industrial Security Program Operating Manual (NISPOM).” DD Form 441 is the initial contract between industry and the government. The DD Form 441-1 is used to extend the agreements to branch offices of the contractor. The SF Form 328 must be submitted to provide certification regarding elements of Foreign Ownership, Control or Influence (FOCI).

Affected Public: Business or Other For-Profit; Not-For-Profit Institutions.

Frequency: On Occasion.

Respondent's Obligation: Required to Obtain or Retain Benefits.

OMB Desk Officer: Mr. Edward C. Springer.

Written comments and recommendations on the proposed information collection should be sent to Mr. Springer at the Office of Management and Budget, Desk Officer for DoD, Room 10236, New Executive Office Building, Washington, DC 20503.

DOD Clearance Officer: Mr. Robert Cushing.

Written requests for copies of the information collection proposal should be sent to Mr. Cushing, WHS/DIOR, 1215 Jefferson Davis Highway, Suite 1204, Arlington, VA 22202-4302.

Dated: February 8, 2001.
Patricia L. Toppings,
Alternate OSD Federal Register Liaison Officer, Department of Defense.

[FR Doc. 01-3834 Filed 2-14-01; 8:45 am]

BILLING CODE 5001-10-M